DEPARTMENT OF ENERGY

Federal Energy Regulatory Commission

Combined Notice of Filings #1

Take notice that the Commission received the following electric rate filings:

Docket Numbers: ER10-2401-003; ER10-2423-003; ER10-2404-003; ER10-2406-003.

Applicants: Blue Canyon Windpower II LLC, Flat Rock Windpower LLC, Flat Rock Windpower II LLC, High Trail Wind Farm, LLC.

Description: Notice of Non-Material Change in Status of Blue Canyon Windpower II LLC, et al.

Filed Date: 7/26/13.

Accession Number: 20130726-5180.

Comments Due: 5 p.m. ET 8/16/13.

Docket Numbers: ER11-4026-002.

Applicants: Eel River Power LLC.

Description: Supplement to June 28, 2013 Notice of Change in Status to be effective 9/26/2013.

Filed Date: 7/26/13.

Accession Number: 20130726-5154.

Comments Due: 5 p.m. ET 8/16/13.

Docket Numbers: ER12-1320-002.

Applicants: Desert View Power, Inc.

Description: Supplement to Notice of Change in Status to be effective 9/26/2013.

Filed Date: 7/26/13.

Accession Number: 20130726-5155.

Comments Due: 5 p.m. ET 8/16/13.

Docket Numbers: ER13-1514-000.

Applicants: Public Service Company of Colorado.

Description: 2013-07-25_PSC-TSGT Davis Intm CA 341 Comp Filing to be effective N/A.

Filed Date: 7/25/13.

Accession Number: 20130725-5107.

Comments Due: 5 p.m. ET 8/15/13.

Docket Numbers: ER13-1793-001.

Applicants: Hazle Spindle, LLC.

Description: Hazle Spindle, LLC submits Supplement to July 15, 2013 tariff filing Amendment.

Filed Date: 7/26/13.

Accession Number: 20130726-5179.

Comments Due: 5 p.m. ET 8/16/13.

Docket Numbers: ER13-2040-000.

Applicants: California Independent System Operator Corporation.

Description: California Independent System Operator Corporation submits 2013-07-26 Payment Rescission Rules for Ancillary Services to be effective 11-1-2013.

Filed Date: 7/26/13.

Accession Number: 20130726-5138.

Comments Due: 5 p.m. ET 8/16/13.

Docket Numbers: ER13-2041-000.

Applicants: Southwest Power Pool, Inc.

Description: Southwest Power Pool, Inc. submits 1977R3 Nemaha-Marshall Electric Cooperative NITSA and NOA to be effective 6/27/2013.

Filed Date: 7/26/13.

Accession Number: 20130726-5146.

Comments Due: 5 p.m. ET 8/16/13.

Docket Numbers: ER13-2042-000

Applicants: Southwest Power Pool, Inc.

Description: Southwest Power Pool, Inc. submits 1886R2 Westar Energy, Inc. NITSA and NOA to be effective 6/27/2013.

Filed Date: 7/26/13.

Accession Number: 20130726-5147.

Comments Due: 5 p.m. ET 8/16/13.

Docket Numbers: ER13-2043-000.

Applicants: South Jersey Energy ISO4, LLC.

Description: South Jersey Energy ISO4, LLC submits Market-Based Rates Application to be effective 7/27/2013.

Filed Date: 7/26/13.

Accession Number: 20130726-5148.

Comments Due: 5 p.m. ET 8/16/13.

Docket Numbers: ER13-2044-000.

Applicants: South Jersey Energy ISO5, LLC.

Description: South Jersey Energy ISO5, LLC submits Market-Based Rates Application to be effective 7/27/2013.

Filed Date: 7/26/13.

Accession Number: 20130726-5149.

Comments Due: 5 p.m. ET 8/16/13.

Docket Numbers: ER13-2045-000.

Applicants: Northern States Power Company, a Wisconsin corporation.

Description: 2013-7-29-139-NSPW-CAPX-LaX-WI-CMA-AGMT—Filing to be effective 12/21/2012.

Filed Date: 7/29/13.

Accession Number: 20130729-5029.

Comments Due: 5 p.m. ET 8/19/13.

Docket Numbers: ER13-2046-000.

Applicants: Northern States Power Company, a Wisconsin corporation.

Description: Northern States Power Company, a Wisconsin corporation submits tariff filing per 35.13(a)(2)(iii: 2013-7-29-140-NSPW-CAPX-LaX-WI-OMA-AGMT—Filing to be effective 12/21/2012.

Filed Date: 7/29/13.

Accession Number: 20130729-5031.

Comments Due: 5 p.m. ET 8/19/13.

Docket Numbers: ER13-2047-000.

Applicants: Northern States Power Company, a Minnesota corporation.

Description: 2013-7-29_560-NSP-CAPX-LAX-MN-CMA—Concur-Filing to be effective 12/21/2012.

Filed Date: 7/29/13.

Accession Number: 20130729-5047.

Comments Due: 5 p.m. ET 8/19/13.

Take notice that the Commission received the following land acquisition reports:

Docket Numbers: LA13-2-000.

Applicants: Arizona Solar One LLC, Mojave Solar LLC.

Description: Quarterly Land Acquisition Report of Arizona Solar One LLC, et al.

Filed Date: 7/29/13.

Accession Number: 20130729-5026.

Comments Due: 5 p.m. ET 8/19/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 29, 2013.
Nathaniel J. Davis, Sr.,
Deputy Secretary.

[FR Doc. 2013-18781 Filed 8-2-13; 8:45 am]

BILLING CODE 6717-01-P